DEPARTMENT OF COMMERCE

International Trade Administration

[A-570-863]

Honey From the People's Republic of China: Final Rescission of the New Shipper Review of Shanghai Sunbeauty Trading Co., Ltd.

AGENCY: Enforcement and Compliance, International Trade Administration, Department of Commerce.

SUMMARY: On December 6, 2016, the Department of Commerce (the Department) published its Preliminary Rescission for the new shipper review (NSR) of the antidumping duty order on honey from the People's Republic of China (PRC). The period of review is December 1, 2014, through November 30, 2015. As discussed below, we preliminarily determined to rescind this review because we found the new shipper sales of Shanghai Sunbeauty Trading Co., Ltd. (Sunbeauty) to be non-bona fide. Based on our analysis of the comments received, we make no changes to the Preliminary Rescission. Accordingly, we have determined to rescind this NSR with respect to Sunbeauty.

DATES: Effective March 30, 2017.

FOR FURTHER INFORMATION CONTACT: Kabir Archuletta or Carrie Bethea, AD/CVD Operations, Office V, Enforcement and Compliance, International Trade Administration, U.S. Department of Commerce, 1401 Constitution Avenue NW., Washington, DC 20230; telephone: (202) 482-2593 or (202) 482-1491, respectively.

SUPPLEMENTARY INFORMATION:

Background

For a complete description of the events that followed the publication of the Preliminary Rescission,¹ see the Issues and Decision Memorandum.² A list of topics included in the Issues and Decision Memorandum is included as an Appendix to this notice. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly at http://enforcement.trade.gov/frn/. The signed and electronic version of the Issues and Decision Memorandum are identical in content.

¹ See Honey from the People's Republic of China: Preliminary Intent to Rescind New Shipper Review, 81 FR 87906, (December 6, 2016) (Preliminary Rescission).

² See Memorandum to Gary Taverman, Associate Deputy Assistant Secretary for Antidumping and Countervailing Duty Operations, from James Doyle, Director, Office V, Antidumping and Countervailing Duty Operations, entitled, “Issues and Decision Memorandum for the Final Rescission of the Antidumping Duty New Shipper Review of Honey from the People's Republic of China: Shanghai Sunbeauty Trading Co. Ltd.,” dated concurrently with, and hereby adopted by, this notice (Issues and Decision Memorandum).

Scope of the Order

The products covered by this order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Analysis of Comments Received

All issues raised in the case briefs by parties are addressed in the Issues and Decision Memorandum.³ A list of the issues which parties raised is attached to this notice as an Appendix.

³ See Issues and Decision Memorandum.

Final Rescission of Sunbeauty's New Shipper Review

In the Preliminary Rescission, we announced our preliminary intent to rescind this review, because we found that Sunbeauty's sales are non-bona fide and could not be relied upon to calculate a dumping margin. Based on the Department's complete analysis of all the information and comments on the record of this review, we make no changes to the Preliminary Rescission. Accordingly, we have determined to rescind this NSR with respect to Sunbeauty. For a complete discussion, see the Preliminary Bona Fides Memo,⁴ the Final Business Proprietary Memo,⁵ and the Issues and Decision Memorandum.

⁴ See Memorandum to James C. Doyle, Director, Office V from Carrie Bethea, International Trade Compliance Analyst, Office V, entitled, “Bona Fides Analysis of Honey from the People's Republic of China for Shanghai Sunbeauty Trading Co., Ltd.,” dated November 30, 2016 (Preliminary Bona Fides Memo).

⁵ Memorandum to the File, entitled, “Business Proprietary Information Memo for Shanghai Sunbeauty Trading Co., Ltd.,” dated concurrently with the Memorandum to Ronald K. Lorentzen from Gary Taverman, entitled, “Issues and Decision Memorandum for the Final Rescission of the Antidumping Duty New Shipper Review of Honey from the People's Republic of China: Shanghai Sunbeauty Trading Co., Ltd.” (Final Business Proprietary Information Memo).

Assessment

As the Department is rescinding this NSR, we have not calculated a company-specific dumping margin for Sunbeauty. Sunbeauty's entries covered by this NSR will be assessed at the cash deposit rate required at the time of entry, which is the PRC-wide rate (i.e., $2.63 per kilogram).

Cash Deposit Requirements

Effective upon publication of this notice of the final rescission of the NSR of Sunbeauty, the Department will instruct U.S. Customs and Border Protection to discontinue the option of posting a bond or security in lieu of a cash deposit for entries of subject merchandise from Sunbeauty. The following cash deposit requirements will be effective upon publication of these final results for all shipments of subject merchandise from Sunbeauty entered, or withdrawn from warehouse, for consumption on or after the publication date, as provided for by section 751(a)(2)(C) of Tariff Act of 1930, as amended (the Act): (1) For subject merchandise produced and exported by Sunbeauty, the cash deposit rate will continue to be the PRC-wide rate (i.e., $2.63 per kilogram); (2) for subject merchandise exported by Sunbeauty but not manufactured by Sunbeauty, the cash deposit rate will continue to be the PRC-wide rate (i.e., $2.63 per kilogram); and (3) for subject merchandise manufactured by Sunbeauty, but exported by any other party, the cash deposit rate will be the rate applicable to the exporter. These cash deposit requirements, when imposed, shall remain in effect until further notice.

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

The Department is issuing and publishing these results in accordance with sections 751(a)(2)(B) and 777(i) of the Act and 19 CFR 351.214 and 19 CFR 351.221(b)(5).

Dated: March 24, 2017.
Gary Taverman,
Associate Deputy Assistant Secretary for Antidumping and Countervailing Duty Operations.

Appendix—List of Topics Discussed in the Issues and Decision Memorandum

I. Summary

II. Background

III. Scope of the Order

IV. Discussion of the Issues

Issue: Bona Fide Nature of Sunbeauty's Sales

V. Recommendation

[FR Doc. 2017-06286 Filed 3-29-17; 8:45 a.m.]

BILLING CODE 3510-DS-P